DEPARTMENT OF HOMELAND SECURITY

Federal Emergency Management Agency

[Docket ID: FEMA-2016-0032; OMB No. 1660-0107]

Agency Information Collection Activities: Submission for OMB Review; Comment Request; Federal Emergency Management Agency Public Assistance Customer Satisfaction Surveys

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 6, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This information collection previously published in the Federal Register on December 8, 2016 at 81 FR 88696 with a 60 day public comment period. One positive comment was received supporting FEMA's effort to survey their customers and FEMA's commitment to continually improving the service provided to citizens during times of crisis. The purpose of this notice is to notify the public that FEMA will submit the information collection abstracted below to the Office of Management and Budget for review and clearance.

Collection of Information

Title: FEMA Public Assistance Customer Satisfaction Surveys.

Type of information collection: Revision of a currently approved information collection.

OMB Number: 1660-0107.

Form Titles and Numbers: FEMA Form 519-0-32, Public Assistance Initial Customer Satisfaction Survey (Telephone); FEMA Form 519-0-33, Public Assistance Initial Customer Satisfaction Survey (Internet); FEMA Form 519-0-34, Public Assistance Assessment Customer Satisfaction Survey (Telephone); FEMA Form 519-0-35, Public Assistance Assessment Customer Satisfaction Survey (Internet).

Abstract: Federal agencies are required to survey their customers to determine the kind and quality of services customers want and their level of satisfaction with those services. FEMA managers use the survey results to measure performance against standards for performance and customer service, measure achievement of strategic planning objectives, and generally gauge and make improvements to disaster service that increase customer satisfaction.

Affected Public: Not-for-profit institutions, State, Local, or Tribal government.

Estimated Number of Respondents: 7,804.

Estimated Total Annual Burden Hours: 2,293 hours.

Estimated Cost: The estimated annual cost to respondents for the hour burden is $150,116.19. There are no annual costs to respondents' operations and maintenance costs for technical services. The annual cost to respondents for Non-Labor Cost (expenditures on training, travel and other resources) is $11,664.00. There are no annual start-up or capital costs. The cost to the Federal Government is $697,526.37.

Dated: March 1, 2017.
Tammi Hines,
Records Management Program Chief (Acting), Mission Support, Federal Emergency Management Agency, Department of Homeland Security.

[FR Doc. 2017-04445 Filed 3-6-17; 8:45 am]

BILLING CODE 9111-23-P